NUCLEAR REGULATORY COMMISSION

[NRC-2013-0249]

Biweekly Notice; Applications and Amendments to Facility Operating Licenses and Combined Licenses Involving No Significant Hazards Considerations

Background

Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 17 to October 30, 2013. The last biweekly notice was published on October 29, 2013 (78 FR 64541).

ADDRESSES: You may submit comments by any of the following methods (unless this document describes a different method for submitting comments on a specific subject):

• Federal rulemaking Web site: Go to http://www.regulations.gov and search for Docket ID NRC-2013-0249. Address questions about NRC dockets to Carol Gallagher; telephone: 301-287-3422; email: Carol.Gallagher@nrc.gov.

• Mail comments to: Cindy Bladey, Chief, Rules, Announcements, and Directives Branch (RADB), Office of Administration, Mail Stop: 3WFN-06-A44MP, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0249 when contacting the NRC about the availability of information regarding this document. You may access publicly-available information related to this action by the following methods:

• Federal Rulemaking Web site: Go to http://www.regulations.gov and search for Docket ID NRC-2013-0249.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0249 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital information (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by email to pdr.resource@nrc.gov.

Duke Energy Progress, Inc., Docket No. 50-400, Shearon Harris Nuclear Power Plant, Unit No. 1, Wake County, North Carolina

Date of amendment request: November 29, 2012, as supplemented by letter dated January 3, 2013.

Description of amendment request: This is being re-noticed in its entirety due to an error in the amendment description of the notice published in the Federal Register on February 19, 2013 (78 FR 11691). The proposed amendment would revise the degraded voltage time delay values in Technical Specification (TS) Table 3.3-4. In conjunction with planned plant modifications and reanalysis of the final safety analysis design basis large break loss of coolant accident (LOCA), the revisions would resolve a nonconservative TS.

Basis for proposed no significant hazards consideration determination: As required by 10 CFR 50.91(a), the licensee has provided its analysis of the issue of no significant hazards consideration, which is presented below:

1. Does the proposed change involve a significant increase in the probability or consequences of an accident previously evaluated?

Response: No.

The proposed change revises the Technical Specifications (TS) Table 3.3-4, Functional Unit 9.b. Loss of Offsite Power, 6.9 kV (kilovolt) Emergency Bus Undervoltage—Secondary time delay values. The Loss of Offsite Power, 6.9 kV (kilovolt) Emergency Bus Undervoltage—Secondary instrumentation functions are not initiators to any accident previously evaluated. As such, the probability of an accident previously evaluated is not increased. The revised values continue to provide reasonable assurance that the Loss of Offsite Power, 6.9 kV (kilovolt) Emergency Bus Undervoltage—Secondary function will continue to perform its intended safety functions. As a result, the proposed change will not increase the consequences of an accident previously evaluated.

Concurrent with this proposed change, the Harris Nuclear Plant is revising its large break loss of coolant accident analysis. The revised analysis will be evaluated in accordance with 10 CFR 50.59 to confirm that a change to the technical specifications incorporated in the license is not required, and the change does not meet any of the criteria in Paragraph (c)(2) of that regulation. The revised analysis will employ the plant-specific methodology ANP-3011(P), Harris Nuclear Plant, Unit 1, Realistic Large Break LOCA Analysis, Revision 1, as approved by NRC Safety Evaluation dated May 30, 2012.

Therefore, the proposed change does not involve a significant increase in the probability or consequences of an accident previously evaluated.

2. Does the proposed amendment create the possibility of a new or different kind of accident from any accident previously evaluated?

Response: No.

The proposed change revises the TS Table 3.3-4, Functional Unit 9.b. Loss of Offsite Power, 6.9 kV (kilovolt) Emergency Bus Undervoltage—Secondary time delay values. No new operational conditions beyond those currently allowed are introduced. This change is consistent with the safety analyses assumptions and current plant operating practices. This simply corrects the setpoint consistent with the accident analyses and therefore cannot create the possibility of a new or different kind of accident from any previously evaluated accident.

Therefore, the proposed change does not create the possibility of a new or different kind of accident from any accident previously evaluated.

3. Does the proposed change involve a significant reduction in the margin of safety?

Response: No.

The proposed change revises the TS Table 3.3-4, Functional Unit 9.b. Loss of Offsite Power, 6.9 kV (kilovolt) Emergency Bus Undervoltage—Secondary time delay values. This proposed change implements a reduced time delay to isolate safety buses from offsite power if a Loss of Coolant Accident were to occur coincident with a sustained degraded voltage condition. This provides improved margin to ensure that emergency core cooling system pumps inject water into the reactor vessel within the time assumed and evaluated in the accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Manager—Senior Counsel—Legal Department, Progress Energy Service Company, LLC, Post Office Box 1551, Raleigh, North Carolina 27602.

NRC Branch Chief: Jessie F. Quichocho.

Florida Power and Light Company, et al., Docket Nos. 50-335 and 50-389, St. Lucie Plant, Unit Nos. 1 and 2, St. Lucie County, Florida.

Date of amendment request: July 26, 2013, as supplemented by letter dated October 16, 2013.

Description of amendment request: The proposed amendment would align St. Lucie TSs with NUREG-1432, Revision 4, Combustion Engineering Plants Standard Technical Specifications (STSs) describing the Administrative Controls requirements for the Responsibility and Organization, which includes Onsite and Offsite Organizations and the Unit Staff. The proposed amendment will revise TSs 6.1, Responsibility and 6.2, Organization to be consistent with STSs 5.1 Responsibility and 5.2 Organization, which directly reference the requirements in 10 CFR 50.54(m). The current Units 1 and 2 TSs 6.1 and 6.2 use custom language to define the requirements of the regulation.

Basis for proposed no significant hazards consideration (NSHC) determination: As required by 10 CFR 50.91(a), the licensee has provided its analysis of the issue of NSHC, which is presented below:

1. Does the proposed change involve a significant increase in the probability or consequences of an accident previously evaluated?

Response: No.

The proposed changes involve reformatting, renumbering, and rewording. The revisions have no technical implications with respect to the station organization, responsibilities, or unit staffing requirements. The changes do not affect the minimum shift complement in any mode of operation nor decrease the effectiveness of the shift personnel. The proposed changes are minor or editorial in nature and will not result in any significant increase in the probability of consequences of an accident as previously evaluated, as the proposed TS changes are consistent with the NUREG-1432, Combustion Engineering Plant Standard Technical Specifications. Further, the proposed changes do not introduce additional risk or greater potential for consequences of an accident that has not previously been evaluated.

Therefore, the proposed changes do not involve a significant increase in the probability or consequences of an accident previously evaluated.

2. Does the proposed change create the possibility of a new or different kind of accident from any accident previously evaluated?

Response: No.

The proposed changes are minor or editorial in nature. The proposed changes do not involve a physical modification of the plant or methods governing normal plant operation. No new or different type of equipment will be installed. The proposed changes will not introduce new failure modes/effects that could lead to an accident not previously analyzed. The proposed changes will not impose any new or change existing requirements that are not consistent with NUREG-1432, Combustion Engineering Plant Standard Technical Specifications.

Therefore, the proposed changes do not create the possibility of a new or different kind of accident from any accident previously evaluated.

3. Does the proposed change involve a significant reduction in a margin of safety?

Response: No.

The proposed changes involve reformatting, renumbering, and rewording. The revisions have no technical implications with respect to the station organization, responsibilities, or unit staffing requirements. The changes do not affect the minimum shift complement in any mode of operation nor decrease the effectiveness of the shift personnel. The proposed changes will not involve a significant reduction in a margin of safety in that the changes are minor or editorial in nature. No plant equipment or accident analyses will be affected. Additionally, the proposed changes will not relax any criteria used to establish safety limits, safety system settings, or the bases for any limiting conditions for operation. Safety analysis acceptance criteria are not affected. Plant operation will continue within the design basis. The proposed changes do not adversely affect systems that respond to safely shutdown the plant, and maintain the plant in a safe shutdown condition. Consequently, the proposed changes do not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Acting Branch Chief: Douglas A. Broaddus.

Florida Power Corporation, et al., Docket No. 50-302, Crystal River Unit 3 Nuclear Generating Plant (CR-3), Citrus County, Florida

Date of amendment request: April 25, 2013, as supplemented on September 4, 2013.

Description of amendment request: The proposed license amendment request would revise certain requirements from Section 5, “Administrative Controls,” of the CR-3 Improved Technical Specifications (ITSs). The revisions would revise and remove certain requirements in Section 5.1 “Responsibility,” 5.2 “Organization,” 5.6 “Procedures, Programs and Manuals,” 5.7 “Reporting Requirements,” and 5.8 “High Radiation Area,” that are no longer applicable to CR-3 in the permanently defueled condition. The September 4, 2013, supplement supersedes the April 25, 2013, application, and replaces it in its entirety. In addition, the proposed no significant hazards consideration determination in the basis section below corrects a typographical numbering error for TS 5.2.1.b (the section was incorrectly labeled “5.1.2.b” in Section 4.1 of Attachment B of the September 4, 2013, application).

Basis for proposed no significant hazards consideration determination: As required by 10 CFR 50.91(a), the licensee has provided its analysis of the issue of no significant hazards consideration for each proposed change, which is presented below:

A. ITS Section 5.1.1:

This section defines the responsible position for overall unit operation and for approval of each proposed test, experiment, or modification to systems or equipment that affect stored nuclear fuel and fuel handling. The responsible position title is changed from the Plant General Manager to the Plant Manager.

1. Does the proposed change involve a significant increase in the probability or consequences of an accident previously evaluated?

Response: No.

The change reflects that the remaining credible accident is a fuel handling accident or loss of spent fuel cooling. The change in the position title of the responsible person is administrative and cannot increase the probability or consequences of a fuel handling accident.

2. Does the proposed change create the possibility of a new or different kind of accident from any accident previously evaluated?

Response: No.

This change reflects an organizational change to transition from an operating plant to a permanently defueled plant. Such an administrative change cannot create a new or different kind of accident.

3. Does the proposed change involve a significant reduction in a margin of safety?

Response: No.

The position title proposed here does not involve any physical plant limits or parameters and therefore cannot affect any margin of safety.

B. ITS Section 5.1.2:

This section identifies the responsibilities for the control room command function associated with Modes of plant operation, and is based on personnel positions and qualifications for an operating plant. It identifies the need for a delegation of authority for command in an operating plant when the principal assignee leaves the control room.

This section is being changed to eliminate the MODE dependency for this function and personnel qualifications associated with an operating plant. The proposed change establishes the Shift Supervisor as having command of the shift.

1. Does the proposed change involve a significant increase in the probability or consequences of an accident previously evaluated?

Response: No.

This is a change to the requirements for control room staffing. In a permanently defueled plant, the fuel handling building accident is the only credible accident previously evaluated. This action cannot increase the probability or consequences of a fuel handling accident.

2. Does the proposed change create the possibility of a new or different kind of accident from any accident previously evaluated?

Response: No.

The changes proposed here for control room staffing cannot create a new or different kind of accident since they do not change the function of any plant structures, systems, or components.

3. Does the proposed change involve a significant reduction in a margin of safety?

Response: No.

The changes proposed here for control room staffing do not directly involve any limits or parameters and therefore cannot affect any margin of safety.

C. ITS Section 5.2.1.a:

The introduction to this section identifies that organizational positions are established that are responsible for the safety of the nuclear plant.

This is changed to require that positions be established that are responsible for the safe storage and handling of nuclear fuel. This change removes the implication that CR-3 can return to operation.

1. Does the proposed change involve a significant increase in the probability or consequences of an accident previously evaluated?

Response: No.

This change in the description of functional responsibility of organizational positions places emphasis on the safe storage and handling of nuclear fuel. This focus on their principal responsibility cannot increase the probability or consequences of a fuel handling accident.

2. Does the proposed change create the possibility of a new or different kind of accident from any accident previously evaluated?

Response: No.

This change in the description of functional responsibility of organizational positions cannot create a new or different kind of accident since they do not change the function of any plant structures, systems, or components.

3. Does the proposed change involve a significant reduction in a margin of safety?

Response: No.

This change does not directly involve any physical limits or parameters and therefore cannot affect any margin of safety.

D. ITS Section 5.2.1.b:

This section identifies the organizational position responsible for overall nuclear plant safety, for the safe operation of the plant, and for control of activities necessary for the safe operation and maintenance of the plant.

This section is being changed to recognize that the safety concerns for a permanently defueled plant are for the safe storage and handling of nuclear fuel. It changes responsibility for overall safety for storage and handling of nuclear fuel to the Decommissioning Director. It changes responsibility for control over onsite activities necessary for safe handling and storage of nuclear fuel to the Plant Manager.

1. Does the proposed change involve a significant increase in the probability or consequences of an accident previously evaluated?

Response: No.

This change in the description of functional responsibility of organizational positions places emphasis on the safe storage and handling of nuclear fuel. This focus on their principal responsibility cannot increase the probability or consequences of a fuel handling accident.

2. Does the proposed change create the possibility of a new or different kind of accident from any accident previously evaluated?

Response: No.

This change in the description of functional responsibility of organizational positions cannot create a new or different kind of accident since they do not change the function of any plant structures, systems, or components.

3. Does the proposed change involve a significant reduction in a margin of safety?

Response: No.

This change does not directly involve any physical limits or parameters and therefore cannot affect any margin of safety.

E. ITS Section 5.2.1.c:

This paragraph addresses the requirement for organizational independence of the operations, health physics, and quality assurance personnel from operating pressures.

This is changed to replace “operating staff” with “Certified Fuel Handlers,” and to replace “their independence from operating pressures” to “their ability to perform their assigned functions.”

1. Does the proposed change involve a significant increase in the probability or consequences of an accident previously evaluated?

Response: No.

This change continues to ensure that personnel in specifically identified positions retain independence from organizational pressures and will not increase the probability or occurrence of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

F. ITS Section 5.2.2.a:

This paragraph addresses that one auxiliary nuclear operator must be assigned to the operating shift whenever fuel is in the reactor.

Since this can never occur again at CR-3, the minimum requirement is changed to a minimum crew compliment of one Shift Supervisor and one Non-certified Operator.

1. Does the proposed change involve a significant increase in the probability or consequences of an accident previously evaluated?

Response: No.

This change, in conjunction with new paragraph 5.2.2.f, continues to ensure that personnel trained and qualified for the safe handling and storage of nuclear fuel are onsite. This cannot increase the probability or consequences of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

G. ITS Section 5.2.2.b:

This paragraph addresses the conditions under which the minimum shift compliment may be reduced. It contains a reference to 10 CFR 50.54(m) which establishes the minimum requirements for a licensed operating staff for facility operation.

This reference is removed since CR-3 will not return to operation in the future, and the requirement for licensed operating personnel will no longer be required to protect public health and safety.

1. Does the proposed change involve a significant increase in the probability or consequences of an accident previously evaluated?

Response: No.

This change continues to ensure that the minimum shift compliment of qualified personnel will not be decreased for more than a limited period. It removes the qualification requirements for personnel who are capable of responding to operating plant transients and accidents. This does not involve an increase in the probability or consequences of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

H. ITS Section 5.2.2.c:

This paragraph establishes the requirement for one licensed Reactor Operator to be in the control room when fuel is in the reactor and for one Senior Reactor Operator to be in the control room during operating Modes 1-4.

The change establishes the requirements for either a Non-certified operator or Certified Fuel handler to be in the control room when fuel is stored in the pools.

1. Does the proposed change involve a significant increase in the probability or consequences of an accident previously evaluated?

Response: No.

This change continues to ensure that personnel trained and qualified for the handling and storage of nuclear fuel man the control room. This cannot increase the probability or consequences of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

I. ITS Section 5.2.2.d:

This paragraph established the requirement for a person qualified in Radiation Protection procedures to be onsite when fuel is in the reactor.

This paragraph is revised to require a person qualified in Radiation Protection procedures to be onsite during fuel handling operations and during movement of heavy loads over the fuel storage racks.

1. Does the proposed change involve a significant increase in the probability or consequences of an accident previously evaluated?

Response: No.

This is an administrative change that cannot affect the probability of a fuel handling accident. The consequences of a fuel handling accident are governed by the characteristics of the fuel element and are not affected by the presence or absence of radiation protection trained personnel.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

J. ITS Section 5.2.2.e (New):

A new paragraph is added to establish the requirement for having oversight of fuel handling operations to be performed by a Certified Fuel Handler.

1. Does the proposed change involve a significant increase in the probability or consequences of an accident previously evaluated?

Response: No.

Certified Fuel Handlers are specifically trained and qualified to safely handle irradiated fuel. Applying these qualifications to fuel movement ensures that the probability or consequences of a fuel handling accident are not increased.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

K. ITS Section 5.2.2.f (New):

A new paragraph is added to establish that the Shift Supervisor must be a Certified Fuel Handler.

In the permanently defueled plant, the Certified Fuel Handler is the senior position on the operating crew. It is not necessary for the Shift Supervisor to hold a Senior Reactor Operator license if the plant cannot operate to generate power.

1. Does the proposed change involve a significant increase in the probability or consequences of an accident previously evaluated?

Response: No.

Certified Fuel Handlers are specifically trained and qualified to safely handle irradiated fuel. Applying these qualifications to the supervision of fuel movement ensures that the probability or consequences of a fuel handling accident are not increased.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

L. ITS Section 5.3.1:

This paragraph is changed to remove the requirements for the Shift Technical Advisor since that position is only required for a plant authorized for power operations.

The paragraph retains the previous requirements for the personnel filling unit staff positions meet or exceed the minimum qualifications of ANSI [American National Standard Institute] N18.1, 1971, and the Radiation Protection Manager meet or exceed the qualifications of Regulatory Guide 1.8, September 1975.

1. Does the proposed change involve a significant increase in the probability or consequences of an accident previously evaluated?

Response: No.

The Shift Technical Advisor position was established to assist the control room operating personnel to diagnose the cause and advise on the response to operating transients and accidents. The absence of a staff member with those qualifications does not change the probability or consequences of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any physical equipment limits or parameters and therefore cannot affect any margin of safety.

M. ITS Section 5.3.2:

This new paragraph is added to identify that responsibility for the training and retraining of Certified Fuel Handlers is assigned to the Plant Manager.

1. Does the proposed change involve a significant increase in the probability or consequences of an accident previously evaluated?

Response: No.

This section recognizes the importance of establishing and maintaining Certified Fuel Handler qualifications and assigns a manager responsibility for this program. Training and retraining Certified Fuel Handlers specifically trained to safely handle nuclear fuel will not increase the probability or consequences of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any physical limits or parameters and therefore cannot affect any margin of safety.

N. ITS Section 5.6.1.1.a:

This section states the requirement for procedures to be established, implemented and maintained covering various plant activities.

The scope is reduced to procedures applicable to the safe handling and storage of nuclear fuel.

1. Does the proposed change involve a significant increase in the probability or consequences of an accident previously evaluated?

Response: No.

The procedures necessary for the safe handling of nuclear fuel are included in the group of procedures applicable to the safe storage of nuclear fuel. With these procedures in effect for fuel handling, the probability or consequences of a fuel handling accident will not be increased.

2. Does the proposed change create the possibility of a new or different kind of accident from any accident previously evaluated?

Response: No.

The applicable procedures for the safe storage of nuclear fuel will direct the correct use of fuel handling equipment. These procedures are currently in place and have been used effectively for the safe handling of fuel. These procedures will not direct the use of plant structures, systems, or components in a different manner, therefore, they cannot create a new or different kind of accident.

3. Does the proposed change involve a significant reduction in a margin of safety?

Response: No.

This change does not directly involve any limits or parameters and therefore cannot affect any margin of safety.

O. ITS Section 5.6.2.3:

In this section, the authority for approval of changes to the Offsite Dose Calculation Manual (ODCM) is changed from the Plant General Manager to the Plant Manager consistent with the position title change in 5.1.1.

1. Does the proposed change involve a significant increase in the probability or consequences of an accident previously evaluated?

Response: No.

This is a change to the requirements for the position responsible for approving ODCM changes. In a permanently defueled plant, the fuel handling accident is the only credible accident previously evaluated. This action cannot increase the probability or consequences of a fuel handling accident.

2. Does the proposed change create the possibility of a new or different kind of accident from any accident previously evaluated?

Response: No.

The change proposed here, identifying a different position responsible for ODCM change approval, cannot create a new or different kind of accident since this does not change the function of any plant structures, systems, or components.

3. Does the proposed change involve a significant reduction in a margin of safety?

Response: No.

The changes proposed here for ODCM approval do not directly involve any limits or parameters for operating systems and therefore cannot affect any margin of safety.

P. ITS Section 5.6.2.4: Primary Coolant Sources Outside Containment:

This program was established to minimize leakage from portions of systems outside containment that could contain highly radioactive fluids during a serious transient or accident.

The program is being eliminated.

1. Does the proposed change involve a significant increase in the probability or consequences of an accident previously evaluated?

Response: No.

The fuel handling accident is the only credible accident for a permanently defueled plant. This change eliminates an inspection program that is no longer necessary to limit the consequences of operating transients and accidents. This change cannot increase the probability or consequences of the fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

Q. ITS Section 5.6.2.5: Component Cyclic or Transient Limit:

This program provided controls to track cyclic and transient occurrences to ensure that components were maintained within their design limits.

This program is being eliminated.

1. Does the proposed change involve a significant increase in the probability or consequences of an accident previously evaluated?

Response: No.

Eliminating an administrative event tracking program cannot increase the probability of a fuel handling accident.

2. Does the proposed change create the possibility of a new or different kind of accident from any accident previously evaluated?

Response: No.

Eliminating an administrative event tracking program cannot create a new or different kind of accident.

3. Does the proposed change involve a significant reduction in a margin of safety?

Response: No.

This change does not directly involve any limits or parameters and therefore cannot affect any margin of safety.

R. ITS Section 5.6.2.8: Inservice Inspection Program:

This program required periodic inspections, examinations, and tests of plant pressure boundary components to ensure their continued integrity for power operation.

This program is being eliminated.

1. Does the proposed change involve a significant increase in the probability or consequences of an accident previously evaluated?

Response: No.

The Inservice Inspection Program does not apply to nuclear fuel or fuel handling equipment. Therefore eliminating this program cannot increase the probability or occurrence of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

For an operating plant the Inservice Inspection Program provided confidence that plant systems that were either a potential source of an accident or transient or served to mitigate events continued to meet their physical requirements. For a permanently shutdown plant, no transient, or accident can occur, so ending this inspection program cannot affect any margin of safety.

S. ITS Section 5.6.2.9: Inservice Testing Program:

This program required periodic testing of ASME Code Class 1, 2, and 3, components including applicable supports in accordance with the ASME Operations and Maintenance (OM) Code.

1. Does the proposed change involve a significant increase in the probability or consequences of an accident previously evaluated?

Response: No.

The Inservice Testing Program does not apply to nuclear fuel or fuel handling equipment. Therefore eliminating this program cannot increase the probability or occurrence of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

For an operating plant, the Inservice Testing Program provided confidence that plant components that were required for safe shutdown would perform as expected. For a permanently shutdown plant, the transients or accidents that would require safe shutdown equipment cannot occur, so ending this testing program cannot affect any margin of safety.

T. ITS Section 5.6.2.10: Steam Generator (OTSG) Program:

The Steam Generator Program established and implemented practices to ensure that OTSG tube integrity was maintained.

This program is being eliminated.

1. Does the proposed change involve a significant increase in the probability or consequences of an accident previously evaluated?

Response: No.

The condition of the steam generator tubes inside the containment has no effect on fuel handling in the auxiliary building within the spent fuel pools. Therefore, eliminating the program cannot increase the probability or occurrence of a fuel handling accident.

2. Does the proposed change create the possibility of a new or different kind of accident from any accident previously evaluated?

Response: No.

The CR-3 steam generators will remain out of service until removed from the plant. In this state, the condition of the steam generator tubes is immaterial and cannot create a new or different kind of accident.

3. Does the proposed change involve a significant reduction in a margin of safety?

Response: No.

This change does not directly involve any limits or parameters and therefore cannot affect any margin of safety.

U. ITS Section 5.6.2.11: Secondary Water Chemistry Program:

This program provided controls for monitoring secondary water chemistry to inhibit steam generator tube degradation and low pressure turbine disc stress corrosion cracking.

This program is being eliminated.

1. Does the proposed change involve a significant increase in the probability or consequences of an accident previously evaluated?

Response: No.

The secondary piping systems do not interconnect with the fuel cooling or fuel handling systems. Therefore, eliminating the Secondary Water Chemistry Program cannot increase the probability or occurrence of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

The components this program was intended to protect will no longer function for power production. Therefore, eliminating this program cannot affect any margin of safety.

V. ITS Section 5.6.2.13: Explosive Gas and Storage Tank Radioactivity Monitoring Program:

This program provided controls for potentially explosive gas mixtures contained in the Radioactive Waste Disposal (WD) System, and the quantity of radioactivity contained in gas storage tanks or fed into the offgas treatment system.

This program is being eliminated.

1. Does the proposed change involve a significant increase in the probability or consequences of an accident previously evaluated?

Response: No.

This program is required for an operating plant where hydrogen and radioactive gases are created and must be controlled. Controlled release of any gases currently in the tanks, in accordance with existing procedures, will ensure there will be no hazard to public health and safety. Therefore, elimination of this program cannot increase the probability or consequences of a fuel handling accident.

2. Does the proposed change create the possibility of a new or different kind of accident from any accident previously evaluated?

Response: No.

This program is required for an operating plant where hydrogen and radioactive gases are created and must be controlled. Controlled release of any gases currently in the tanks, in accordance with existing procedures, will ensure there will be no hazard to public health and safety. Therefore, elimination of this program cannot create a new or different kind of accident.

3. Does the proposed change involve a significant reduction in a margin of safety?

Response: No.

This change does not directly involve any limits or parameters and therefore cannot affect any margins of safety.

W. ITS Section 5.6.2.18: Core Operating Limits Report (COLR):

This program established that core operating limits be established prior to each reload cycle.

This program is being eliminated.

1. Does the proposed change involve a significant increase in the probability or consequences of an accident previously evaluated?

Response: No.

This program for controlling the design and operation of the reactor core has no bearing on fuel storage after fuel has been moved into the spent fuel pools. Therefore, eliminating this program cannot increase the probability or occurrence of a fuel handling accident.

2. Does the proposed change create the possibility of a new or different kind of accident from any accident previously evaluated?

Response: No.

Since CR-3 can never load a core into the reactor again, eliminating this control program cannot create a new or different kind of accident.

3. Does the proposed change involve a significant reduction in a margin of safety?

Response: No.

Since CR-3 can never load a core into the reactor again, eliminating this control program cannot affect any margin of safety.

X. ITS 5.6.2.19: Reactor Coolant System (RCS) Pressure And Temperature Limits Report (PTLR):

This program ensured that RCS pressure and temperature limits, including heatup and cooldown rates, criticality, and hydrostatic and leak test limits, be established and documented in the PTLR.

This program is being eliminated.

1. Does the proposed change involve a significant increase in the probability or consequences of an accident previously evaluated?

Response: No.

This program contains no actions or limits that affect the storage or handling of nuclear fuel. Therefore, eliminating this program cannot increase the probability or occurrence of a fuel handling accident.

2. Does the proposed change create the possibility of a new or different kind of accident from any accident previously evaluated?

Response: No.

This report is no longer needed since the reactor coolant system is not subject to pressurization and the reactor contains no fuel. Therefore, eliminating this control program cannot create a new or different kind of accident.

3. Does the proposed change involve a significant reduction in a margin of safety?

Response: No.

The limits established in this report do not apply to nuclear fuel stored in the spent fuel pools. Therefore, eliminating this program cannot affect any margin of safety.

Y. ITS Section 5.6.2.20: Containment Leakage Rate Testing Program:

This program was established to implement the leakage rate testing of the containment.

This program is being eliminated in accordance with Regulatory Guide 1.1.84.

1. Does the proposed change involve a significant increase in the probability or consequences of an accident previously evaluated?

Response: No.

Since fuel can never be returned to the CR-3 containment, ending containment leakage rate testing cannot increase the probability or occurrence of a fuel handling accident.

2. Does the proposed change create the possibility of a new or different kind of accident from any accident previously evaluated?

Response: No.

This change does not introduce any changes to the function of any plant structures, systems, or components therefore it cannot create a new or different kind of accident.

3. Does the proposed change involve a significant reduction in a margin of safety?

Response: No.

This change does not directly involve any limits or parameters and therefore cannot affect any margin of safety.

Z. ITS Section 5.7.2: Special Reports:

This section is being revised to eliminate reporting requirements associated with programs that are being eliminated.

1. Does the proposed change involve a significant increase in the probability or consequences of an accident previously evaluated?

Response: No.

Eliminating reporting requirements for programs that are no longer required in a permanently defueled plant cannot increase the probability or occurrence of a fuel handling accident.

2. Does the proposed change create the possibility of a new or different kind of accident from any accident previously evaluated?

Response: No.

Eliminating reporting requirements that are no longer required cannot create a new or different kind of accident.

3. Does the proposed change involve a significant reduction in a margin of safety?

Response: No.

Eliminating reporting requirements that are no longer required cannot affect any margin of safety.

AA. ITS Section 5.8.2: High Radiation Area Controls:

Changes one of the personnel responsible for locked high radiation area key control from the Control Room Supervisor to the Shift Supervisor.

1. Does the proposed change involve a significant increase in the probability or consequences of an accident previously evaluated?

Response: No.

This is a change to the requirements for the position title responsible for key control. In a permanently defueled plant, the fuel handling accident is the only credible accident previously evaluated. This action cannot increase the probability or consequences of a fuel handling accident.

2. Does the proposed change create the possibility of a new or different kind of accident from any accident previously evaluated?

Response: No.

The change proposed here, identifying a different position title responsible for key control, cannot create a new or different kind of accident since they do not change the function of any plant structures, systems, or components.

3. Does the proposed change involve a significant reduction in a margin of safety?

Response: No.

The changes proposed here for key control do not directly involve any limits or parameters and therefore cannot affect any margin of safety.

The NRC staff has reviewed the licensee's analysis and, based on this review, it appears that the three standards of 50.92(c) are satisfied. Therefore, the NRC staff proposes to determine that the amendment request involves no significant hazards consideration.

Attorney for licensee: Kathryn B. Nolan, 550 South Tryon Street, Charlotte, North Carolina, 28202.

NRC Branch Chief: Jessie F. Quichocho.

Nine Mile Point Nuclear Station, LLC, Docket Nos. 50-220, and 50-410, Nine Mile Point Nuclear Station, Unit Nos. 1 and 2, Oswego County, New York

Date of amendment request: October 7, 2013.

Description of amendment request: The proposed amendment modifies the Nine Mile point Units 1 and 2 TS definition of “Shutdown Margin” (SDM) to require calculation of the SDM at a reactor moderator temperature of 68 °F or a higher temperature that represents the most reactive state throughout the operating cycle. This change is needed to address new Boiling Water Reactor (BWR) fuel designs which may be more reactive at shutdown temperatures above 68 °F.

The Nuclear Regulatory Commission (NRC) staff issued a notice of opportunity for comment in the Federal Register on November 19, 2012; 77 FR 69507, on possible amendments to revise the plant specific TS, to modify the TS definition of “Shutdown Margin” (SDM) to require calculation of the SDM at a reactor moderator temperature of 68 °F or a higher temperature that represents the most reactive state throughout the operating cycle, including a model safety evaluation and model NSHC [no significant hazards consideration] determination, using the consolidated line-item improvement process. The NRC staff subsequently issued a notice of availability of the models for referencing in license amendment applications in the Federal Register on February 26, 2013 (78 FR 13100). The licensee affirmed the applicability of the model NSHC determination in its application dated October 7, 2013, which is presented below.

Basis for proposed no significant hazards consideration determination: As required by 10 CFR 50.91(a), an analysis of the issue of NSHC adopted by the licensee is presented below:

1. Does the proposed change involve a significant increase in the probability or consequences of an accident previously evaluated?

Response: No.

The proposed change revises the definition of SDM. SDM is not an initiator to any accident previously evaluated. Accordingly, the proposed change to the definition of SDM has no effect on the probability of any accident previously evaluated. SDM is an assumption in the analysis of some previously evaluated accidents and inadequate SDM could lead to an increase in consequences for those accidents. However, the proposed change revises the SDM definition to ensure that the correct SDM is determined for all fuel types at all times during the fuel cycle. As a result, the proposed change does not adversely affect the consequences of any accident previously evaluated.

Therefore, the proposed change does not involve a significant increase in the probability or consequences of an accident previously evaluated.

2. Does the proposed change create the possibility of a new or different kind of accident from any accident previously evaluated?

Response: No.

The proposed change revises the definition of SDM. The change does not involve a physical alteration of the plant (i.e., no new or different type of equipment will be installed) or a change in the methods governing normal plant operations. The change does not alter assumptions made in the safety analysis regarding SDM.

Therefore, the proposed change does not create the possibility of a new or different kind of accident from any previously evaluated.

3. Does the proposed change involve a significant reduction in a margin of safety?

Response: No.

The proposed change revises the definition of SDM. The proposed change does not alter the manner in which safety limits, limiting safety system settings or limiting conditions for operation are determined. The proposed change ensures that the SDM assumed in determining safety limits, limiting safety system settings or limiting conditions for operation is correct for all fuel types at all times during the fuel cycle.

Therefore, the proposed change does not involve a significant reduction in a margin of safety.

The NRC staff has reviewed the analysis adopted by the licensee and, based on this review, it appears that the standards of 10 CFR 50.92(c) are satisfied. Therefore, the NRC staff proposes to determine that the request for amendment involves NSHC.

Attorney for licensee: Gautam Sen, Senior Counsel, Constellation Energy Nuclear Group, LLC, 100 Constellation Way, Suite 200C, Baltimore, MD 21202.

NRC Branch Chief: Robert Beall.

South Carolina Electric and Gas, Docket Nos.: 52-027 and 52-028, Virgil C. Summer Nuclear Station (VCSNS) Units 2 and 3, Fairfield County, South Carolina

Date of amendment request: September 25, 2013.

Description of amendment request: The proposed change would amend Combined License Nos. NPF-93 and NPF-94 for the Virgil C. Summer Nuclear Station (VCSNS) Units 2 and 3 by departing from VCSNS Units 2 and 3 Updated Final Safety Analysis Report (UFSAR) Tier 2* material by revising reference document APP-OCS-GEH-220, “AP1000 Human Factors Engineering Task Support Verification Plan,” from Revision B to Revision 1. APP-OCS-GEH-220 is incorporated by reference in the UFSAR as a means to implement the activities associated with the human factors engineering verification and validation.

Basis for proposed no significant hazards consideration determination: As required by 10 CFR 50.91(a), the licensee has provided its analysis of the issue of no significant hazards consideration, which is presented below:

1. Does the proposed amendment involve a significant increase in the probability or consequences of an accident previously evaluated?

Response: No.

The HFE Task Support Verification Plan is one of several verification and validation (V&V) activities performed on human-system interface (HSI) resources and the Operation and Control Centers System (OCS), where applicable. The Task Support Verification Plan is used to assess and verify displays and activities related to normal and emergency operation. The changes are to the Task Support Verification Plan to clarify the scope and amend the details of the methodology. The Task Support Verification Plan does not affect the plant itself. Changing the Plan does not affect prevention and mitigation of abnormal events, e.g., accidents, anticipated operational occurrences, earthquakes, floods and turbine missiles, or their safety or design analyses. The Probabilistic Risk Assessment is not affected. No safety-related structure, system, component (SSC) or function is adversely affected. The change does not involve nor interface with any SSC accident initiator or initiating sequence of events, and thus, the probabilities of the accidents evaluated in the UFSAR are not affected. Because the changes do not involve any safety-related SSC or function used to mitigate an accident, the consequences of the accidents evaluated in the UFSAR are not affected.

Therefore, there is no significant increase in the probability or consequences of an accident previously evaluated.

2. Does the proposed amendment create the possibility of a new or different kind of accident from any accident previously evaluated?

Response: No.

The changes to the Task Support Verification Plan change information related to validation and verification on Human System Interface and Operational Control Centers. Therefore, the changes do not affect the safety-related equipment itself, nor do they affect equipment which, if it failed, could initiate an accident or a failure of a fission product barrier. No analysis is adversely affected. No system or design function or equipment qualification will be adversely affected by the changes. This activity will not allow for a new fission product release path, nor will it result in a new fission product barrier failure mode, nor create a new sequence of events that would result in significant fuel cladding failures. In addition, the changes do not result in a new failure mode, malfunction, or sequence of events that could affect safety or safety-related equipment.

Therefore, this activity does not create the possibility of a new or different kind of accident from any accident previously evaluated.

3. Does the proposed amendment involve a significant reduction in a margin of safety?

Response: No.

The changes to the Task Support Verification Plan affect the validation and verification on the Human System Interface and the Operational Control Centers. Therefore, the changes do not affect the plant itself. These changes do not affect the design or operation of safety-related equipment or equipment whose failure could initiate an accident, nor does it adversely interface with safety-related equipment or fission product barriers. No safety analysis or design basis acceptance limit/criterion is challenged or exceeded by the requested change.

Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence Burkhart.

South Carolina Electric & Gas, Docket Nos.: 52-027 and 52-028, Virgil C. Summer Nuclear Station (VCSNS) Units 2 and 3, Fairfield County, South Carolina

Date of amendment request: September 25, 2013.

Description of amendment request: The proposed change would amend Combined License Nos. NPF-93 and NPF-94 for the Virgil C. Summer Nuclear Station (VCSNS) Units 2 and 3 by departing from VCSNS Units 2 and 3 Updated Final Safety Analysis Report (UFSAR) Tier 2* material by revising reference document APP-OCS-GEH-120, “AP1000 Human Factors Design Engineering Verification Plan,” from Revision B to Revision 1. APP-OCS-GEH-120 is incorporated by reference in the updated UFSAR as a means to implement the activities associated with the human factors engineering verification and validation.

Basis for proposed no significant hazards consideration determination: As required by 10 CFR 50.91(a), the licensee has provided its analysis of the issue of no significant hazards consideration, which is presented below:

1. Does the proposed amendment involve a significant increase in the probability or consequences of an accident previously evaluated?

Response: No.

Design verification provides a final check of the adequacy of the Human System Interface (HSI) Resources and Operation and Control Centers System (OCS) design. The changes do not affect the plant itself, and so there is no change to the probability or consequences of an accident previously evaluated. Changing the design verification plan does not affect prevention and mitigation of abnormal events, e.g., accidents, anticipated operational occurrences, earthquakes, floods and turbine missiles, or their safety or design analyses as the purpose of the plan is simply to verify implementation of design criteria. The Probabilistic Risk Assessment is not affected. No safety-related structure, system, component (SSC) or function is adversely affected. The change does not involve nor interface with any SSC accident initiator or initiating sequence of events, and thus, the probabilities of the accidents evaluated in the UFSAR are not affected. Because the changes do not involve any safety-related SSC or function used to mitigate an accident, the consequences of the accidents evaluated in the UFSAR are not affected.

Therefore, there is no significant increase in the probability or consequences of an accident previously evaluated.

2. Does the proposed amendment create the possibility of a new or different kind of accident from any accident previously evaluated?

Response: No.

Design verification provides a final check of the adequacy of the HSI Resources and Operation and Control Centers System design. The changes do not affect the plant itself, and so there is no new or different kind of accident from any accident previously evaluated. Therefore, the changes do not affect safety-related equipment, nor does it affect equipment which, if it failed, could initiate an accident or a failure of a fission product barrier. No analysis is adversely affected. No system or design function or equipment qualification is adversely affected by the changes. This activity will not allow for a new fission product release path, nor will it result in a new fission product barrier failure mode, nor create a new sequence of events that would result in significant fuel cladding failures. In addition, the changes do not result in a new failure mode, malfunction, or sequence of events that could affect safety or safety-related equipment.

Therefore, this activity does not create the possibility of a new or different kind of accident from any accident previously evaluated.

3. Does the proposed amendment involve a significant reduction in a margin of safety?

Response: No.

The changes to the design verification plan provide a final check of the adequacy of the HSI Resources and Operation and Control Centers System design. The changes do not affect the assessments or the plant itself. The changes do not affect safety-related equipment or equipment whose failure could initiate an accident, nor does it adversely interface with safety-related equipment or fission product barriers. No safety analysis or design basis acceptance limit/criterion is challenged or exceeded by the requested change.

Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence Burkhart.

South Carolina Electric and Gas, Docket Nos.: 52-027 and 52-028, Virgil C. Summer Nuclear Station (VCSNS) Units 2 and 3, Fairfield County, South Carolina

Date of amendment request: October 3, 2013.

Description of amendment request: The proposed change would amend Combined License Nos. NPF-93 and NPF-94 for the Virgil C. Summer Nuclear Station (VCSNS) Units 2 and 3 by departing from VCSNS Units 2 and 3 Updated Final Safety Analysis Report (UFSAR) Tier 2* material by revising material by revising reference document APP-OCS-GEH-520, “AP1000 Plant Startup Human Factors Engineering Design Verification Plan,” from Revision B to Revision 2. APP-OCS-GEH-520 is incorporated by reference in the UFSAR as a means to implement the activities associated with the human factors engineering verification and validation.

Basis for proposed no significant hazards consideration determination: As required by 10 CFR 50.91(a), the licensee has provided its analysis of the issue of no significant hazards consideration, which is presented below:

1. Does the proposed amendment involve a significant increase in the probability or consequences of an accident previously evaluated?

Response: No.

The APP-OCS-GEH-520, document confirms aspects of the human system interface (HSI) and Operation and Control Centers Systems (OCS) design features that could not be evaluated in other Human Factors Engineering (HFE) verification and validation (V&V) activities. It also confirms that the as-built in the plant HSIs, procedures, and training conform to the design that resulted from the HFE program. Additionally, it confirms that all HFE-related issues (including human error discrepancies (HEDs)) documented in the SmartPlant Foundation (SPF) Human Factors (HF) Tracking System are verified as adequately addressed or resolved. Finally, it confirms the HFE adequacy for risk-important human actions in the local plant, including the ability for the tasks to be completed within the time window according to the Probabilistic Risk Assessment (PRA). The changes to the plan are to clarify the scope and amend the details of the methodology. The plan does not affect the plant itself. Changing the plan does not affect prevention and mitigation of abnormal events, e.g., accidents, anticipated operational occurrences, earthquakes, floods and turbine missiles, or their safety or design analyses. The PRA is not affected. No safety-related Structure, System, or Component (SSC) or function is adversely affected. The document revision change does not involve nor interface with any SSC accident initiator or initiating sequence of events, and thus, the probabilities of the accidents evaluated in the Updated Final Safety Analysis Report (UFSAR) are not affected. Because the changes to the plan do not involve any safety-related SSC or function used to mitigate an accident, the consequences of the accidents evaluated in the UFSAR are not affected.

Therefore, there is no significant increase in the probability or consequences of an accident previously evaluated.

2. Does the proposed amendment create the possibility of a new or different kind of accident from any accident previously evaluated?

Response: No.

APP-OCS-GEH-520, “AP1000 Plant Startup Human Factors Engineering Design Verification Plan” is the plan to confirm aspects of the HSI and OCS design features that could not be evaluated in other HFE V&V activities. The plan also confirms that the as-built in the plant HSIs, procedures, and training conform to the design that resulted from the HFE program. Additionally, it confirms that all HFE-related issues (including HEDs) documented in the SPF HF Tracking System are verified as adequately addressed or resolved. Finally, it confirms the HFE adequacy for risk-important human actions in the local plant, including the ability for the tasks to be completed within the time window according to the PRA. These functions support evaluating the HSI and OCS. Therefore, the changes do not affect the safety-related equipment itself, nor do they affect equipment which, if it failed, could initiate an accident or a failure of a fission product barrier. No analysis is adversely affected. No system or design function or equipment qualification will be adversely affected by the changes. This activity will not allow for a new fission product release path, nor will it result in a new fission product barrier failure mode, nor create a new sequence of events that would result in significant fuel cladding failures. In addition, the changes do not result in a new failure mode, malfunction, or sequence of events that could affect safety or safety-related equipment.

Therefore, this activity does not create the possibility of a new or different kind of accident than any accident previously evaluated.

3. Does the proposed amendment involve a significant reduction in a margin of safety?

Response: No.

APP-OCS-GEH-520, “AP1000 Plant Startup Human Factors Engineering Design Verification Plan” is the plan to confirm aspects of the HSI and OCS design features that could not be evaluated in other HFE V&V activities. The plan also confirms that the as-built in the plant HSIs, procedures, and training conform to the design that resulted from the HFE program. Additionally, it confirms that all HFE-related issues (including HEDs) documented in the SPF HF Tracking System are verified as adequately addressed or resolved. Finally, it confirms the HFE adequacy for risk-important human actions in the local plant, including the ability for the tasks to be completed within the time windows in the PRA. These functions support evaluating the HSI and OCS. The proposed changes to the plan do not affect the design or operation of safety-related equipment or equipment whose failure could initiate an accident, nor does the plan adversely affect the interfaces with safety-related equipment or fission product barriers. No safety analysis or design basis acceptance limit/criterion is challenged or exceeded by the requested changes.

Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence Burkhart.

South Carolina Electric & Gas, Docket Nos.: 52-027 and 52-028, Virgil C. Summer Nuclear Station (VCSNS) Units 2 and 3, Fairfield County, South Carolina

Date of amendment request: October 3, 2013.

Description of amendment request: The proposed change would amend Combined License Nos. NPF-93 and NPF-94 for the Virgil C. Summer Nuclear Station (VCSNS) Units 2 and 3 by departing from VCSNS Units 2 and 3 Updated Final Safety Analysis Report (UFSAR) Tier 2* material by revising reference document APP-OCS-GEH-420, “AP1000 Human Factors Engineering Discrepancy Resolution Process,” from Revision B to Revision 1. APP-OCS-GEH-420 is incorporated by reference in the UFSAR as a means to implement the activities associated with the human factors engineering verification and validation (TAC No. RQ0403) (LAR 13-18).

Basis for proposed no significant hazards consideration determination: As required by 10 CFR 50.91(a), the licensee has provided its analysis of the issue of no significant hazards consideration, which is presented below:

1. Does the proposed amendment involve a significant increase in the probability or consequences of an accident previously evaluated?

Response: No.

The HFE Discrepancy Resolution Process is used to capture and resolve Human Engineering Discrepancies (HEDs) identified during the Human Factors Engineering (HFE) verification and validation (V&V) activities. These discrepancy resolution process activities are used to support the final check of the adequacy of the HFE design of the Human-System Interface (HSI) resources and the Operation and Control Centers Systems (OCS) design. The discrepancy resolution process activities are performed as part of the V&V activities against the final configuration and control documentation, simulator or installed target system. The changes are to the Discrepancy Resolution Process to clarify the scope and amend the details of the methodology. The Discrepancy Resolution Process does not affect the plant itself. Changing the Discrepancy Resolution Process does not affect prevention and mitigation of abnormal events, e.g., accidents, anticipated operational occurrences, earthquakes, floods and turbine missiles, or their safety or design analyses. No safety-related structure, system, component (SSC) or function is adversely affected. The document revision does not involve nor interface with any SSC accident initiator or initiating sequence of events, and thus the probabilities of the accidents evaluated in the Updated Final Safety Analysis Report (UFSAR) are not affected. Because the changes do not involve any safety-related SSC or function used to mitigate an accident, the consequences of the accidents evaluated in the UFSAR are not affected.

Therefore, there is no significant increase in the probability or consequences of an accident previously evaluated.

2. Does the proposed amendment create the possibility of a new or different kind of accident from any accident previously evaluated?

Response: No.

The changes to the Discrepancy Resolution Process information are related to discrepancy resolution of HEDs during the HFE V&V activities on the HSI and the OCS. Therefore, the changes do not affect the safety-related equipment itself, nor do they affect equipment which, if it failed, could initiate an accident or a failure of a fission product barrier. No analysis is adversely affected. No system or design function or equipment qualification will be adversely affected by the changes. This activity will not allow for a new fission product release path, nor will it result in a new fission product barrier failure mode, nor create a new sequence of events that would result in significant fuel cladding failures. In addition, the changes do not result in a new failure mode, malfunction, or sequence of events that could affect safety or safety-related equipment.

Therefore, this activity does not create the possibility of a new or different kind of accident than any accident previously evaluated.

3. Does the proposed amendment involve a significant reduction in a margin of safety?

Response: No.

The changes to the Discrepancy Resolution Process affect discrepancy resolution of HEDs during the HFE V&V activities on the HSI and the OCS. Therefore, the changes do not affect the assessments or the plant itself. These changes do not affect the design or operation of safety-related equipment or equipment whose failure could initiate an accident, nor does it adversely interface with safety-related equipment or fission product barriers. No safety analysis or design basis acceptance limit/criterion is challenged or exceeded by the requested change.

Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence Burkhart.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Carolina Power and Light Company, Docket Nos. 50-325 and 50-324, Brunswick Steam Electric Plant, Units 1 and 2, Brunswick County, North Carolina

Carolina Power & Light Company, et al., Docket No. 50-400, Shearon Harris Nuclear Power Plant, Unit 1, Wake and Chatham Counties, North Carolina

Carolina Power & Light Company, Docket No. 50-261, H.B. Robinson Steam Electric Plant, Unit No. 2, Darlington County, South Carolina

Date of amendment request: April 20, 2013.

Brief description of amendment: The amendments revised the corporate name of the licensee in each facility's operating license from Carolina Power & Light Company to Duke Energy Progress, Inc.

Date of issuance: October 21, 2013.

Effective date: As of the date of issuance and shall be implemented within 60 days.

Amendment Nos.: 263, 291, 142, and 236.

Renewed Facility Operating License Nos. DPR-71, DPR-62, NPF-63, and DPR-23: Amendments revised the Licenses and Appendix cover pages.

Dates of initial notice in Federal Register: May 28, 2013 (78 FR 31982) and correction to initial notice on June 21, 2013 (78 FR 37595).

The Commission's related evaluation of the amendment is contained in a Safety Evaluation dated October 21, 2013.

No significant hazards consideration comments received: No.

Florida Power Corporation, et al., Docket No. 50-302, Crystal River Unit No. 3 Nuclear Generating Plant, Citrus County, Florida

Date of application for amendment: March 20, 2013.

Brief description of amendment: The amendment changes the name of the Licensee in the Facility Operating License.

Date of issuance: October 18, 2013.

Effective date: Date of issuance, to be implemented within 60 days.

Amendment No.: 243.

Facility Operating License No. DPR-72: Amendment revises the Facility Operating License.

Date of initial notice in Federal Register: April 30, 2013 (78 FR 25314).

The Commission's related evaluation of the amendment is contained in a Safety Evaluation dated October 18, 2013.

No significant hazards consideration comments received: No.

Indiana Michigan Power Company, Docket Nos. 50-315 and 50-316, Donald C. Cook Nuclear Plant, Units 1 and 2, Berrien County, Michigan

Date of application for amendments: July 1, 2011, as supplemented by letters dated September 2, 2011, April 27, 2012, June 29, 2012, August 9, 2012, October 15, 2012, November 9, 2012, January 14, 2013, February 1, 2013, May 1, 2013, June 21, 2013, and September 16, 2013.

Brief description of amendments: The amendments revised the facility operating licenses and transitions the Donald C. Cook Nuclear Plant fire protection program to a new risk-informed, performance-based alternative in accordance with 10 CFR 50.48(c), which incorporates by reference the National Fire Protection Association (NFPA) Standard 805 (NFPA 805), “Performance-Based Standard for Fire Protection for Light Water Reactor Electric Generating Plants—2001.”

Date of issuance: October 24, 2013.

Effective date: As of the date of issuance and shall be implemented by October 24, 2014.

Amendment Nos.: Unit 1—322; Unit 2—305.

Facility Operating License No. DPR-58 and DPR-74: Amendments revised the Renewed Facility Operating Licenses.

Date of initial notice in Federal Register: October 4, 2011 (76 FR 61396). The supplemental letters dated September 2, 2011, April 27, 2012, June 29, 2012, August 9, 2012, October 15, 2012, November 9, 2012, January 14, 2013, February 1, 2013, May 1, 2013, June 21, 2013, and September 16, 2013, provided additional information that clarified the application, did not expand the scope of the application as originally noticed, and did not change the staff's original proposed no significant hazards consideration determination as published in the Federal Register.

The Commission's related evaluation of the amendment is contained in a Safety Evaluation dated October 24, 2013.

No significant hazards consideration comments received: No.

NextEra Energy Seabrook, LLC, Docket No. 50-443, Seabrook Station, Unit No. 1, Rockingham County, New Hampshire

Date of amendment request: March 27, 2013, as supplemented June 25, 2013.

Brief description of amendment: The amendment revised the Seabrook TS. The amendment modifies TS requirements regarding steam generator tube inspections and reporting as described in TS Task Force (TSTF)-510, Revision 2, “Revision to Steam Generator Program Inspection Frequencies and Tube Sample Selection,” using the Consolidated Line Item Improvement Process (CLIIP). The changes are consistent with Industry/TSTF Standard Technical Specification Change Traveler, TSTF-510. The availability of this TS improvement was announced in the Federal Register on October 27, 2011 (76 FR 66763), as part of the CLIIP.

Date of issuance: October 25, 2013.

Effective date: As of its date of issuance and shall be implemented within 60 days.

Amendment No.: 138.

Facility Operating License No. NPF-86: The amendment revised the Facility Operating License and TS.

Date of initial notice in Federal Register: April 30, 2013 (78 FR 25316). The supplement dated June 25, 2013, provided additional information that clarified the application, did not expand the scope of the application as originally noticed, and did not change the NRC staff's original proposed no significant hazards consideration determination as published in the Federal Register.

The Commission's related evaluation of the amendment is contained in a Safety Evaluation dated October 25, 2013.

No significant hazards consideration comments received: No.

Southern Nuclear Operating Company, Inc. Docket Nos. 52-025 and 52-026, Vogtle Electric Generating Plant (VEGP) Units 3 and 4, Burke County, Georgia

Date of amendment request: June 19, 2013, and revised by the letter dated August 27, 2013.

Brief description of amendment: The proposed amendment would depart from VEGP Units 3 and 4 plant-specific Design Control Document (DCD) Tier 2* and associated Tier 2 material incorporated into the Updated Final Safety Analysis Report (UFSAR) by revising requirements for design spacing of shear studs and the design of structural elements in order to address interferences and obstructions other than wall openings.

Date of issuance: October 8, 2013.

Effective date: As of the date of issuance and shall be implemented within 30 days of issuance.

Amendment No.: Unit 3-14, and Unit 4-14.

Facility Combined Licenses No. NPF-91 and NPF-92: Amendment revised the Facility Combined Licenses.

Date of initial notice in Federal Register: August 6, 2013 (78 FR 47792).

The Commission's related evaluation of the amendment is contained in a Safety Evaluation dated October 8, 2013.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852, and electronically on the Internet at the NRC Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital information (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Indiana Michigan Power Company, Docket No. 50-315, Donald C. Cook Nuclear Plant, Unit 1, Berrien County, Michigan

Date of amendment request: October 7, 2013, as supplemented by letters dated October 8 and October 9, 2013.

Description of amendment request: This notice was previously published in the Federal Register on October 29, 2013 (78 FR 64550). This notice is being reissued in its entirety as it was inadvertently placed in the incorrect section of the Biweekly report published on October 29, 2013. The amendment revised Technical Specification (TS) 3.6.9, “Distributed Ignition System (DIS),” to allow Train B of the DIS to be considered operable with two inoperable ignitors. The existing TS defines train operability as having no more than one ignitor inoperable. The amendment also allows one of five specific primary containment regions to have zero ignitors operable. The existing TS requires that at least one ignitor be operable in each region. The proposed TS revision is applicable until the fall 2014 refueling outage, or until the unit enters a mode that allows replacement of the affected ignitors without exposing personnel to significant radiation and safety hazards.

Date of issuance: October 9, 2013.

Effective date: As of the date of issuance, to be implemented within 1 day.

Amendment No.: 321.

Renewed Facility Operating License No. DPR-58: Amendment revised the Technical Specifications and License.

Public comments requested as to proposed no significant hazards consideration (NSHC): No.

The Commission's related evaluation of the amendment, finding of emergency circumstances, state consultation, and final NSHC determination are contained in a safety evaluation dated October 9, 2013.

Attorney for licensee: Robert B. Haemer, Senior Nuclear Counsel, One Cook Place, Bridgman, MI 49106.

NRC Branch Chief: Robert D. Carlson.

Omaha Public Power District, Docket No. 50-285, Fort Calhoun Station, Unit No. 1, Washington County, Nebraska

Date of amendment request: October 6, 2013, as supplemented by letters dated October 15, 21, and 22, 2013 and two letters dated October 23, 2013.

Description of amendment request: The amendment revised the Updated Safety Analysis Report (USAR) for pipe break criteria for high energy piping outside of containment. Specifically, the proposed amendment would allow the use of NRC guidance provided in Branch Technical Position Mechanical Engineering Branch 3-1, Revision 2, which allows for the exemption of specific piping sections from postulated failures if certain criteria are met.

Date of issuance: October 25, 2013.

Effective date: As of its issuance date and shall be implemented upon approval.

Amendment No.: 273.

Renewed Facility Operating License No. DPR-40: The amendment revised the facility operating license.

Public comments requested as to proposed no significant hazards consideration (NSHC): Yes (Omaha-World Herald, located in Omaha, Nebraska, from October 9 through October 15, 2013). The notice provided an opportunity to submit comments on the Commission's proposed NSHC determination. One comment was received and evaluated.

The supplemental letters dated October 15, 21, and 22, 2013, and two letters dated October 23, 2013, provided additional information that clarified the application, did not expand the scope of the application as originally noticed, and did not change the staff's original proposed no significant hazards consideration determination as published in the Omaha-World Herald from October 9 through 15, 2013.

The Commission's related evaluation of the amendment, finding of exigent circumstances, state consultation, and final NSHC determination (including the comment received on the NSHC) are contained in a safety evaluation dated October 25, 2013.

Attorney for licensee: David A. Repka, Esq., Winston & Strawn, 1700 K Street, NW., Washington, DC 20006-3817.

NRC Branch Chief: Michael T. Markley.

Dated at Rockville, Maryland, this 1st day of November 2013.
For the Nuclear Regulatory Commission.
Michele G. Evans,
Director, Division of Operating Reactor Licensing, Office of Nuclear Reactor Regulation.

[FR Doc. 2013-27025 Filed 11-8-13; 8:45 am]

BILLING CODE 7590-01-P